DEPARTMENT OF AGRICULTURE

Forest Service

DEPARTMENT OF THE INTERIOR

Bureau of Land Management

Santa Rosa and San Jacinto Mountains National Monument Advisory Committee

AGENCIES: Forest Service, U.S. Department of Agriculture; and Bureau of Land Management, U.S. Department of the Interior.

ACTION: Notice of meetings of the Santa Rosa and San Jacinto Mountains National Monument Advisory Committee for 2007 and 2008.

SUMMARY: In accordance with the Federal Advisory Committee Act of 1972 (FACA), the Santa Rosa and San Jacinto Mountains National Monument Advisory Committee (Monument Advisory Committee) will meet as indicated below.

DATES:

• March 3, 2007.

• June 2, 2007.

• September 8, 2007.

• December 1, 2007.

• March 1, 2008.

• June 7, 2008.

• September 6, 2008.

• December 6, 2008.

All meetings of the Monument Advisory Committee will start at 9 a.m. and conclude at 1 p.m.

ADDRESSES: Meetings of the Monument Advisory Committee will be held at the Palm Desert City Council Chambers, 73510 Fred Waring Drive, Palm Desert, California.

FOR FURTHER INFORMATION CONTACT: Jim Foote, Monument Manager, Santa Rosa and San Jacinto Mountains National Monument, c/o Bureau of Land Management, P.O. Box 581260, North Palm Springs, CA 92258; phone (760) 251-4800.

SUPPLEMENTARY INFORMATION: Meetings of the Monument Advisory Committee focus on implementation of the Santa Rosa and San Jacinto Mountains National Monument Management Plan. A public comment period, when members of the public may address the Monument Advisory Committee, will occur at 11 a.m. during each meeting. Written comments may be sent to the Monument Manager at the address listed above. All meetings are open to the public; however, transportation, lodging, and meals are the responsibility of the participating public.

Dated: February 9, 2007.
Laurie Rosenthal,
District Ranger, Forest Service, San Jacinto Ranger District, San Bernardino National Forest.
Dated: February 9, 2007.
John R. Kalish,
Acting Field Manager, Bureau of Land Management, Palm Springs-South Coast Field Office.
Dated: February 9, 2007.
Jim Foote,
Monument Manager, Santa Rosa and San Jacinto Mountains National Monument.

[FR Doc. 07-2014 Filed 4-23-07; 8:45 am]

BILLING CODE 3410-11-M